DEPARTMENT OF HEALTH AND HUMAN SERVICES

National Institutes of Health

Center For Scientific Review; Amended Notice of Meeting

Notice is hereby given of a change in the meeting of the Center for Scientific Review Special Emphasis Panel, November 19, 2020, 1 p.m. to November 19, 2020, 5 p.m., National Institutes of Health, 6701 Rockledge Drive, Bethesda, MD 20892 which was published in the Federal Register on October 22, 2020, 85 FR 67361.

This notice is being amended to change the panel name from Aspects of Development and Disease in the Cornea to Member Conflict: Neuropsychiatric Disorders. The meeting is closed to the public.

Dated: October 28, 2020.
Ronald J. Livingston, Jr.,
Program Analyst, Office of Federal Advisory Committee Policy.

[FR Doc. 2020-24256 Filed 11-2-20; 8:45 am]

BILLING CODE 4140-01-P